DEPARTMENT OF AGRICULTURE

Natural Resources Conservation Service

Notice of Intent To Prepare an Environmental Impact Statement

AGENCY: Natural Resources Conservation Service, USDA.

ACTION: Notice of intent to prepare an Environmental Impact Statement for the Little Otter Creek Watershed Plan, Caldwell County, Missouri.

SUMMARY: Notice is hereby given that in accordance with the National Environmental Policy Act of 1969, the U.S. Department of Agriculture-Natural Resources Conservation Service, the Caldwell County Commission (Missouri), and the Caldwell County Soil and Water Conservation District will prepare an Environmental Impact Statement to assess potential environmental impacts associated with the construction of a multiple-purpose reservoir in the Little Otter Creek Watershed. The proposed reservoir (Site LO-1), will provide rural water supply; fish and wildlife habitat enhancement; recreational development; and flood prevention. The reservoir permanent pool will be 362 acres.

The reservoir will yield 1,240,000 gallons of water per day. It will also provide an estimated 60,000 annual public recreational visits, provide recreational facilities and public opportunities for fishing, walking/biking, and family and social events, provide wetland and wildlife habitat development, and reduce flood damages to lower stream reaches by 96 percent.

FOR FURTHER INFORMATION CONTACT: Harold Deckerd, Assistant State Conservationist, USDA-Natural Resources Conservation Service, Parkade Center, Suite 250, 601 Business Loop 70 West, Columbia, MO 65203, (573) 876-0900.

Harold L. Deckerd,
Acting Assistant State Conservationist for Water Resources, for Roger A. Hansen, State Conservationist.

[FR Doc. 02-18360 Filed 7-19-02; 8:45 am]

BILLING CODE 3410-16-M